DEPARTMENT OF THE INTERIOR

National Park Service

[NPS-PWR-LARO-11986] [PPWLARO00-PPMPRLE1Z.Y00001]

Acceptance of Concurrent Jurisdiction

AGENCY: National Park Service, Interior.

ACTION: Notice of Concurrent Jurisdiction.

SUMMARY: On behalf of the United States, the National Park Service has accepted concurrent legislative jurisdiction from the State of Washington over lands and waters administered by the National Park Service within the boundaries of Lake Roosevelt National Recreation Area.

DATES: Effective Date: Concurrent legislative jurisdiction within Lake Roosevelt National Recreation Area became effective on December 10, 2012.

FOR FURTHER INFORMATION CONTACT: Marty Huseman, Chief Ranger, Lake Roosevelt National Recreation Area, 1008 Crest Drive, Coulee Dam, WA 99116; telephone 509-633-9441, extension 123.

SUPPLEMENTARY INFORMATION: On December 10, 2012, acting in accordance with the provisions of 40 U.S.C. 3112 and Revised Code of Washington Section 37.04.020, Jonathan B. Jarvis, Director of the National Park Service, accepted concurrent legislative jurisdiction from the Honorable Christine Gregoire, Governor of the State of Washington, over lands and waters administered by the National Park Service within the boundaries of Lake Roosevelt National Recreation Area.

Dated: January 10, 2013.
Cameron H. Sholly,
Associate Director, Visitor and Resource Protection.

[FR Doc. 2013-02483 Filed 2-4-13; 8:45 am]

BILLING CODE 4310-FF-P